DEPARTMENT OF ENERGY

Federal Energy Regulatory Commission

[Docket No. CP10-256-000]

Cheniere Creole Trail Pipeline, L.P.; Notice of Request Under Blanket Authorization

May 4, 2010.

Take notice that on April 29, 2010, Cheniere Creole Trail Pipeline, L.P. (Creole Trail), 700 Milam, Suite 800, Houston, Texas 77002, filed in Docket No. CP10-256-000, a prior notice request pursuant to sections 157.205 and 157.216(b) of the Commission's regulations under the Natural Gas Act (NGA). Creole Trail seeks authorization to abandon by transfer to Natural Gas Pipeline Company of America LLC (NGPL) approximately 1,316 feet of 16-inch diameter pipeline which is part of a lateral connecting Creole Trail's facilities transporting gas from its Sabine Pass LNG Terminal, all in Cameron Parish, Louisiana. Creole Trail states that NGPL will file a separate prior notice request for authorization to acquire the facilities under its blanket certificate authority. The cost to replicate the facilities for which abandonment is sought is estimated to be $362,872. Creole Trail proposes to perform these activities under its blanket certificate issued in Docket No. CP05-358-000 [115 FERC ¶ 61,331 (2006)], all as more fully set forth in the application which is on file with the Commission and open to public inspection.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application may be directed to Randy Parr, Vice President Marketing and Business Development, Cheniere Pipeline Company, 700 Milam, Suite 800, Houston, Texas 77002, phone at (713) 375-5000 or to Lisa Tonery, Fulbright & Jaworski LLP, 666 Fifth Avenue, New York, New York 10103, phone (212) 318-3009.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Kimberly D. Bose,
Secretary.

[FR Doc. 2010-11103 Filed 5-10-10; 8:45 am]

BILLING CODE 6717-01-P